ENVIRONMENTAL PROTECTION AGENCY

[EPA-HQ-OPP-2009-0879; FRL-10010-21]

Environmental Modeling Public Meeting; Notice of Virtual Public Meeting

AGENCY: Environmental Protection Agency (EPA).

ACTION: Notice.

SUMMARY: EPA will hold a virtual Environmental Modeling Public Meeting (EMPM) on Wednesday, August 5, 2020, with participation by phone and webcast only. This Notice announces the meeting and provides information on its theme. The EMPM provides a public forum for EPA and its stakeholders to discuss current issues related to modeling pesticide fate, transport, exposure, and ecotoxicity for pesticide risk assessments in a regulatory context.

DATES:

Meeting: This virtual meeting will be held on August 5, 2020 from 9:00 a.m. to approximately 4:30 p.m. EDT.

Requests to participate: Requests to attend the meeting must be submitted on or before July 29, 2020. Requests to present with an accompanying abstract must be submitted on or before July 3, 2020.

ADDRESSES: This is a virtual meeting. To register to attend and/or to present at this virtual meeting, please send an email to OPP_EMPM@epa.gov. You must register via email to receive the webcast meeting link and audio teleconference information for participation. Registrants will be added to the “empmlist” LYRIS list server (https://lists.epa.gov/read/all_forums/). Meeting updates and participation information will be distributed through “empmlist”.

FOR FURTHER INFORMATION CONTACT: The 2020 EMPM Co-chairs, Michael Wagman and Zoe Ruge; telephone number: (703) 347-0198 or (703) 347-0111; email address: OPP_EMPM@epa.gov.

SUPPLEMENTARY INFORMATION:

I. General Information

A. Does this action apply to me?

You may be potentially affected by this action if you are a pesticide registrant or a potential pesticide registrant under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, Forestry, Fishing and Hunting NAICS code 11.

• Utilities NAICS code 22.

• Professional, Scientific and Technical NAICS code 54.

B. How can I get copies of this document and other related information?

The docket for this action, identified by docket identification (ID) number EPA-HQ-OPP-2009-0879, is available at http://www.regulations.gov. It contains materials for all previous EMPMs. EPA will similarly include materials for this EMPM after the meeting.

Please note that due to the public health emergency, the Environmental Protection Agency Docket Center (EPA/DC) and Public Reading Room was closed to public visitors on March 31, 2020. Our EPA/DC staff will continue to provide customer service via email, phone, and webform. Once the EPA/DC is reopened to the public the docket will also be available in-person at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

The purpose of the EMPM if for presentation and discussion of current issues related to modeling pesticide fate, transport, and exposure for risk assessment in a regulatory context.

III. Tentative Theme for the Meeting

The 2020 EMPM will provide a forum for presentations on drinking water assessment improvements for surface water exposure. Potential topics include: New scenario development for the Pesticide in Water Calculator (PWC); new methodology for incorporating percent cropped area (PCA) into refined drinking water assessments; new methodology for incorporating percent crop treated (PCT) into refined drinking water assessments; automation tools developed for applying new methodologies; and the drinking water assessment framework.

Authority: 7 U.S.C. 136 et seq.

Dated: May 26, 2020.
Marietta Echeverria,
Director, Environmental Fate and Effects Division.

[FR Doc. 2020-12142 Filed 6-4-20; 8:45 am]

BILLING CODE 6560-50-P